FEDERAL MARITIME COMMISSION

Ocean Transportation Intermediary License Applicants

Notice is hereby given that the following applicants have filed with the Federal Maritime Commission an application for license as a Non-Vessel Operating Common Carrier and Ocean Freight Forwarder—Ocean Transportation Intermediary pursuant to section 19 of the Shipping Act of 1984 as amended (46 U.S.C. app. 1718 and 46 CFR 515).

Persons knowing of any reason why the following applicants should not receive a license are requested to contact the Office of Transportation Intermediaries, Federal Maritime Commission, Washington, DC 20573.

Non-Vessel Operating Common Carrier Ocean Transportation Intermediary Applicant:

Starlink Consolidation Service (New York), Inc., JFK Cargo Center Bldg. 75, Suite 230, Jamaica, NY 11430. Officers: Anne Wong Liu, Secretary, (Qualifying Individual), Patrick Chung, President.

Non-Vessel Operating Common Carrier and Ocean Freight Forwarder Transportation Intermediary Applicants:

Caribbean Logistic & Marketing Services, C/3 D-5 El Naranjal, Toa Baja, PR 00949, Iris V. Figueroa Colon, Sole Proprietor.

Cargo Service Center, Inc., 440 McClellan Highway, East Boston, MA 02128. Officers: Kathleen G. Murphy, Vice President, (Qualifying Individual), Matthew Thoi, President.

Ocean Freight Forwarder—Ocean Transportation Intermediary Applicant:

Future Forwarding Company, 5673 Old Dixie Highway, Suite 140, Forest Park, GA 30297. Officers: Barbara L. Herring, Vice President, (Qualifying Individual), David W. Holland, Director/Chairman.

Dated: July 16, 2004.
Bryant L. VanBrakle,
Secretary.

[FR Doc. 04-16601 Filed 7-20-04; 8:45 am]

BILLING CODE 6730-01-P